DEPARTMENT OF EDUCATION

[Docket No.: ED-2017-ICCD-0070]

Agency Information Collection Activities; Comment Request; Report of Randolph-Sheppard Vending Facility Program

AGENCY: Office of Special Education and Rehabilitative Services, Department of Education (ED).

ACTION: Notice.

SUMMARY: In accordance with the Paperwork Reduction Act of 1995, ED is proposing an extension of an existing information collection.

DATES: Interested persons are invited to submit comments on or before July 24, 2017.

ADDRESSES: To access and review all the documents related to the information collection listed in this notice, please use http://www.regulations.gov by searching the Docket ID number ED-2017-ICCD-0070. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 226-62, Washington, DC 20202-4537.

FOR FURTHER INFORMATION CONTACT: For specific questions related to collection activities, please contact Tara Jordan, 202-245-7341.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Report of Randolph-Sheppard Vending Facility Program.

OMB Control Number: 1820-0009.

Type of Review: An extension of an existing information collection.

Respondents/Affected Public: State, Local, and Tribal Governments.

Total Estimated Number of Annual Responses: 51.

Total Estimated Number of Annual Burden Hours: 689.

Abstract: The Vending Facility Program authorized by the Randolph-Sheppard Act provides persons who are blind with remunerative employment and self-support through the operation of vending facilities on federal and other property. Under the Randolph Sheppard Program, state licensing agencies recruit, train, license and place individuals who are blind as operators of vending facilities (including cafeterias, snack bars, vending machines, etc.) located on federal and other properties. In statute at 20 U.S.C. 107a(6)(a), the Secretary of Education is directed through the Commissioner of the Rehabilitation Services Administration (RSA) to conduct periodic evaluations of the programs authorized under the Randolph-Sheppard Act. Additionally, section 107b(4) requires entities designated as the state licensing agency to make such reports in such form and containing such information as the Secretary may from time to time require. The information to be collected is a necessary component of the evaluation process and forms the basis for annual reporting. These data are also used to understand the distribution type and profitability of vending facilities throughout the country. Such information is useful in providing technical assistance to state licensing agencies and property managers. The Code of Federal Regulations, at 34 CFR 395.8, specifies that vending machine income received by the state from federal property managers can be distributed to blind vendors in an amount not to exceed the national average income for blind vendors. This amount is determined through data collected using RSA-15: Report of Randolph-Sheppard Vending Facility Program. In addition, the collection of information ensures the provision and transparency of activities referenced in 34 CFR 395.12 related to disclosure of program and financial information.

The following changes are found in the revised information collection (IC) RSA-15: Report of Randolph-Sheppard Vending Facility Program. At the end of the reporting form, a text box was added for notes or explanations. The instructions were modified accordingly to accommodate these changes in the form and to clarify information.

Dated: May 19, 2017.
Tomakie Washington,
Acting Director, Information Collection Clearance Division, Office of the Chief Privacy Officer, Office of Management.

[FR Doc. 2017-10682 Filed 5-24-17; 8:45 am]

BILLING CODE 4000-01-P